DEPARTMENT OF THE INTERIOR

Bureau of Land Management

[LLUT92230-13-L51100000-GA0000-LVEMJ12CJ580, UTU-88953]

Notice of Availability of the Environmental Assessment and Notice of Public Hearing for Federal Coal Lease Application, UTU-88953, UT

AGENCY: Bureau of Land Management, Interior.

ACTION: Notice of Availability and Notice of Public Hearing.

SUMMARY: In accordance with Federal coal management regulations, the Wasatch Natural Resources, LLC, Federal Coal Lease-By-Application (LBA) Environmental Assessment (EA) is available for public review and comment. The United States Department of the Interior, Bureau of Land Management (BLM) Price Field Office will hold a public hearing to receive comments on the EA, Fair Market Value (FMV), and Maximum Economic Recovery (MER) of the coal resources for the Long Canyon Coal Lease Tract, serial number UTU-88953.

DATES: The public hearing will be held at the Price Field Office on July 31, 2013 at 7:00 p.m. Written comments should be received no later than August 8, 2013.

ADDRESSES: The public hearing will be held at the BLM Price Field Office, 125 South 600 West, Price, Utah 84501. Copies of the EA and the unsigned Finding of No Significant Impact (FONSI) are available at the Price Field Office. The hearing will be advertised in the Sun Advocate located in Price, Utah. Written comments on the EA should be sent to: Steve Rigby at the Price Field Office address above. Written comments on the FMV and MER should be sent to Jeff McKenzie, BLM, Utah State Office, Division of Lands and Minerals, 440 West 200 South, Suite 500, Salt Lake City, Utah 84101. Please note “Coal Lease By Application UTU-88953” in the subject line for all emails or mailing envelops.

FOR FURTHER INFORMATION CONTACT: Jeff McKenzie at 801-539-4038, jmckenzi@blm.gov or Mr. Steve Rigby, 435-636-3604, swrigby@blm.gov. Persons who use a telecommunications device for the deaf (TDD) may call the Federal Information Relay Service (FIRS) at 800-877-8339 to contact the above individual(s) during normal business hours. The FIRS is available 24 hours a day, 7 days a week, to leave a message or question with the above individual. You will receive a reply during normal hours.

SUPPLEMENTARY INFORMATION: Wasatch Natural Resources, LLC, submitted the coal lease application. The EA addresses the cultural, socioeconomic, environmental and cumulative impacts that would likely result from leasing these coal lands. The lands included in the Long Canyon Coal Lease Tract are located in Carbon County, Utah, approximately 1 mile north and east of Scofield, Utah, on private surface with federally-administered minerals and are described as follows:

Salt Lake Meridian

T. 12 S., R 7 E.,

Sec. 28, E½E½;

Sec. 33, E½NE¼;

T. 13 S., R 7 E.,

Sec. 1, SW¼NW¼;

Sec. 2;

Sec. 3, lots 1, 2, and 5 to 10, inclusive, and SE¼NE¼, N½SW¼;

Sec. 9, NE¼, S½NW¼, E½SW¼, E½SE¼;

Sec. 10, and 11;

Sec. 12, W½W½;

Sec. 13, W½W½;

Sec. 14, and 15;

Sec. 16, E½E½;

Sec. 23;

Sec. 24, W½NW¼, NW¼SW¼.

The areas described containing approximately 5,586.90 acres.

The Long Canyon Coal Lease Tract has two minable coal beds; the Hiawatha and the UP beds. The minable portions of the coal beds in this area average 10½ feet in thickness for the Hiawatha and average six feet in thickness for the UP. The applicant has proposed to mine the underground coal reserves with continuous mining equipment. The tract is estimated to contain around 40.5 million tons of recoverable high-volatile B bituminous coal. The average coal quality, on an “as received basis,” in the (1) Hiawatha coal bed is as follows: 12,056 Btu/lb., 9.50 percent moisture, 6.10 percent ash, 40.80 percent volatile matter, 46.00 percent fixed carbon and 0.65 percent sulfur, and (2) UP coal bed is as follows: 12,200 Btu/lb., 9.50 percent moisture, 5.90 percent ash, 40.40 percent volatile matter, 45.60 percent fixed carbon and 0.60 percent sulfur. The public is invited to make public and/or written comments on the environmental implications of leasing the proposed tract, and also to submit comments on the FMV and the MER of the tract.

Proprietary data marked as confidential may be submitted to the BLM in response to the solicitation of public comments. Data so marked shall be treated in accordance with the laws and regulations governing confidentiality of such information. A copy of the comments submitted by the public on the EA, FMV and MER, except those portions identified as proprietary by the author and meeting exemptions stated in the Freedom of Information Act, will be available for public inspection at the BLM, Utah State Office, 440 West 200 South, Suite 500, Salt Lake City, Utah, during regular business hours (7:45 a.m.- 4:30 p.m.), Monday through Friday.

Substantive comments, whether written or oral, will receive equal consideration prior to any lease offering. Before including your address, phone number, email address, or other personal identifying information in your comment, you should be aware that your entire comment—including your personal identifying information—may be made publicly available at any time. While you can ask us in your comment to withhold your personal identifying information from public review, we cannot guarantee that we will be able to do so.

Comments on the FMV and MER should address, but not necessarily be limited to, the following information:

1. The quality of the coal resource;

2. The method of mining to be employed to obtain MER of the coal, including specifications of seams to be mined, and timing and rate of production;

3. Whether this tract is likely to be mined as part of an existing mine and therefore should be evaluated on a realistic incremental basis, in relation to the existing mine to which it has the greatest value;

4. Whether the tract should be evaluated as part of a potential larger mining unit and revaluated as a portion of a new potential mine (i.e., a tract which does not in itself form a logical mining unit);

5. Restrictions to mining that may affect coal recovery;

6. The price that the mined coal would bring when sold;

7. Costs, including mining and reclamation, of producing the coal;

8. The timing and annual production tonnage(s);

9. The percentage rate at which anticipated income streams should be discounted, either with inflation or in the absence of inflation, in which case, the anticipated rate of inflation should be given;

10. Depreciation, depletion, amortization and other tax accounting factors;

11. The value of any surface estate where held privately;

12. Documented information on the terms and conditions of recent and similar coal land transactions in the lease sale area; and,

13. Any comparable sales data of similar coal lands, mining conditions, and coal quantities.

Authority: 43 CFR parts 3422 and 3425.

Jenna Whitlock,
Associate State Director.

[FR Doc. 2013-16486 Filed 7-8-13; 8:45 am]

BILLING CODE 4310-DQ-P